DEPARTMENT OF THE INTERIOR

National Park Service

[NPS-WASO-NAGPRA-NPS0033353; PPWOCRADN0-PCU00RP14.R50000]

Notice of Inventory Completion: Robert S. Peabody Institute of Archaeology, Phillips Academy, Andover, MA

AGENCY: National Park Service, Interior.

ACTION: Notice.

SUMMARY: The Robert S. Peabody Institute of Archaeology has completed an inventory of human remains and associated funerary objects, in consultation with the appropriate Indian Tribes or Native Hawaiian organizations, and has determined that there is a cultural affiliation between the human remains and associated funerary objects, and present-day Indian Tribes or Native Hawaiian organizations. Lineal descendants or representatives of any Indian Tribe or Native Hawaiian organization not identified in this notice that wish to request transfer of control of these human remains and associated funerary objects should submit a written request to the Robert S. Peabody Institute of Archaeology. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Robert S. Peabody Institute of Archaeology at the address in this notice by March 3, 2022.

FOR FURTHER INFORMATION CONTACT: Dr. Ryan J. Wheeler, Robert S. Peabody Institute of Archaeology, Phillips Academy, 180 Main Street, Andover, MA 01810, telephone (978) 749-4490, email rwheeler@andover.edu.

SUPPLEMENTARY INFORMATION: Notice is here given in accordance with the Native American Graves Protection and Repatriation Act (NAGPRA), 25 U.S.C. 3003, of the completion of an inventory of human remains and associated funerary objects under the control of the Robert S. Peabody Institute of Archaeology, Phillips Academy, Andover, MA. The human remains and associated funerary objects were removed from eight sites in Cumberland, Hancock, and Washington Counties, ME.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Robert S. Peabody Institute of Archaeology professional staff in consultation with representatives of the Aroostook Band of Micmacs [previously listed as Aroostook Band of Micmac Indians]; Houlton Band of Maliseet Indians; Passamaquoddy Tribe; and the Penobscot Nation [previously listed as Penobscot Tribe of Maine] (hereafter referred to as “The Consulted Tribes”).

History and Description of the Remains

In 1915, human remains representing, at minimum, one individual were removed from Wolfe's Neck (014.101) in Cumberland County, ME, by Warren K. Moorehead. During an inventory project at the Robert S. Peabody Institute in 2019, the remains were identified (and confirmed by a physical anthropologist) as Native American human remains. Moorehead had identified the site as Me 171/7. In 1968, Dean Snow assigned it number 014.101. Snow's record noted that ancestral human remains had been found at the site by Dr. Jos E. Porter of Maine General Hospital, in Portland, and that those human remains were subsequently transferred to the Anthropology Department at Harvard University on August 10, 1953. The human remains at the Peabody Institute likely originated from one of the eroding shell middens in the area, which would date them sometime between 2,800 years ago and the arrival of colonial settlers. No known individual was identified. The 36 associated funerary objects are 29 ceramic sherds and seven faunal bone fragments.

In 1913, human remains representing, at minimum, one individual were removed from Boynton's Shellheap (043.004) in Hancock County, ME, by Warren K. Moorehead and Charles Peabody under the auspices of the Department of Archaeology at Phillips Academy (now the Robert S. Peabody Institute of Archaeology). During a recent inventory project, the remains were identified as Native American human remains. The individual's age and sex could not be ascertained. Other human remains from Boynton's Shellheap were listed in a Notice of Inventory Completion published in the Federal Register on November 21, 2001 (66 FR 58522-58523, November 21, 2001) and were subsequently transferred to The Consulted Tribes. Based on artifact assemblages recovered from the site, Boynton's Shellheap was occupied between 2,150 and 500 B.P. No known individual was identified. No associated funerary objects are present.

Sometime in the 1930s, human remains representing, at minimum, one individual were removed from Falls Island (080.050) in Washington County, ME, by avocational archeologists John and Douglas Knapton. The human remains were given to the Robert S. Peabody Institute as part of the materials recovered during the Northeast Archaeological Survey conducted in Maine from 1932 to1954. During a recent inventory project, the remains were identified as Native American human remains. The individual's age and sex could not be ascertained due to the fragmentary nature of the human remains. The artifact assemblage from Falls Island is consistent with coastal shell-bearing sites from the Middle Maritime Woodland and Late Maritime Woodland periods dating between approximately 2200 B.P. and contact with European settlers. The two associated funerary objects are two faunal bone fragments.

From 1936 to 1940, human remains representing, at minimum, five individuals were removed from Nevin Shellheap (042.011) in Hancock County, ME, by Douglas Byers and Frederick Johnson. In March of 1941, the majority of the human remains removed by Byers and Johnson from the Nevin Shellheap were loaned to the Peabody Museum of Archaeology and Ethnology at Harvard University, Cambridge, MA. On June 28, 1989 and August 8, 1997, control of those human remains was transferred to Harvard University, and they were listed in a Notice of Inventory Completion published by Harvard University in the Federal Register on August 11, 2021 (86 FR 44038-44040, August 11, 2021). The fragmentary remains of the five individuals listed in this notice were inadvertently overlooked during the 1941, 1989, and 1997 transfers to Harvard University. They were identified as Native American human remains during an inventory project carried out at the Robert S. Peabody Institute between 2019 and 2021. The human remains belong to one subadult of unknown sex, one subadult female, two adult males, and one small adult of unknown sex. No known individuals were identified. On April 28, 2015, the Robert S. Peabody Institute listed 462 associated funerary objects from this site in a Notice of Inventory Completion published in the Federal Register (80 FR 23582-23583, April 28, 2015). During the 2019-2021 inventory project, it located an additional 655 associated funerary objects. The 655 additional associated funerary objects are two bone harpoons (including fragments), three modified faunal remains, three bone perforators (including fragments), 638 miscellaneous faunal remains, one unmodified stone, one stone projectile point, four dog burials, one pebble coated with red ochre, one lot of stone and soil matrix, and one ceramic sherd.

In 1913, one associated funerary object was removed from Hodgkin's Point Shellheap in Hancock County, ME, by Warren K. Moorehead under the auspices of the Department of Archaeology at Phillips Academy. The human remains from Hodgkin's Point Shellheap were listed in a Notice of Inventory Completion published in the Federal Register on May 22, 1997 (62 FR 28063-28064, May 22, 1997) and were subsequently transferred to the Passamaquoddy Tribe and the Penobscot Nation [previously listed as Penobscot Tribe of Maine]. During a recent inventory project, the associated funerary object, a faunal bone fragment, was identified.

In 1956, two associated funerary objects were removed from Pond Island Site (041.030) in Hancock County, ME, by Douglas Byers. The human remains from Pond Island Site were listed in a Notice of Inventory Completion published in the Federal Register on November 21, 2001 (66 FR 58522-58523, November 21, 2001) and were subsequently transferred to The Consulted Tribes. During a recent inventory project, the associated funerary objects, a beaver tooth and a ceramic sherd, were identified.

In 1915, 27 associated funerary objects were removed from Holbrook Island in Hancock County, ME, by Warren K. Moorehead. The human remains from Holbrook Island were listed in a Notice of Inventory Completion published in the Federal Register on January 10, 1995 (60 FR 2611-2612, January 10, 1995) and were subsequently transferred to the Passamaquoddy Tribe and the Penobscot Nation [previously listed as Penobscot Tribe of Maine]. The Holbrook Island Site is believed to have been occupied between 900 and 1500 C.E. During a recent inventory project, the 27 associated funerary objects were identified. They are 21 stone bifaces (including fragments), four modified faunal remains, and two unmodified faunal remains.

In 1921, four associated funerary objects were removed from Ludlow's Point Shellheap in Hancock County, ME, by Warren K. Moorehead. The human remains from Ludlow's Point Shellheap were listed in a Notice of Inventory Completion published in the Federal Register on July 18, 1995 (60 FR 36827, July 18, 1995) and were subsequently transferred to the Passamaquoddy Tribe and the Penobscot Nation [previously listed as Penobscot Tribe of Maine]. Ludlow's Point Shellheap is believed to have been occupied between 900 and 1500 C.E. During a recent inventory project, the associated funerary objects, four fragments of modified faunal remains, were identified.

Past consultation with The Consulted Tribes has revealed compelling lines of evidence tying the Wabanaki to the land today known as Maine, New England, and the Canadian Maritimes. The Wabanki have lived uninterrupted on this land for over 12,000 years. Wabanaki oral history is often tied to specific landscape features, with language and stories reflecting a long presence in Maine. Archeological evidence has also established a cultural relationship between the Wabanaki and ancestral populations in that region.

Determinations Made by the Robert S. Peabody Institute of Archaeology

Officials of the Robert S. Peabody Institute of Archaeology have determined that:

• Pursuant to 25 U.S.C. 3001(9), the human remains described in this notice represent the physical remains of eight individuals of Native American ancestry.

• Pursuant to 25 U.S.C. 3001(3)(A), the 727 objects described in this notice are reasonably believed to have been placed with or near individual human remains at the time of death or later as part of the death rite or ceremony.

• Pursuant to 25 U.S.C. 3001(2), there is a relationship of shared group identity that can be reasonably traced between the Native American human remains and associated funerary objects to The Consulted Tribes.

Additional Requestors and Disposition

Lineal descendants or representatives of any Indian Tribe or Native Hawaiian organization not identified in this notice that wish to request transfer of control of these human remains and associated funerary objects should submit a written request with information in support of the request to Dr. Ryan J. Wheeler, Robert S. Peabody Institute of Archaeology, Phillips Academy, 180 Main Street, Andover, MA 01810, telephone (978) 749-4490, email rwheeler@andover.edu, by March 3, 2022. After that date, if no additional requestors have come forward, transfer of control of the human remains and associated funerary objects to The Consulted Tribes may proceed.

The Robert S. Peabody Institute is responsible for notifying The Consulted Tribes that this notice has been published.

Dated: January 26, 2022.
Melanie O'Brien,
Manager, National NAGPRA Program.

[FR Doc. 2022-02037 Filed 1-31-22; 8:45 am]

BILLING CODE 4312-52-P